DEPARTMENT OF ENERGY

Federal Energy Regulatory Commission

[Docket No. IC18-6-000]

Commission Information Collection Activities: (FERC-65, FERC-65a, FERC-65b, FERC-725v) Consolidated Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the information collections, FERC-65 (Notice of Holding Company Status), FERC-65A (Exemption Notification of holding Company Status), and FERC-65B (Waiver Notification of Holding Company Status), and FERC-725V (Mandatory Reliability Standards: COM Reliability Standards) which will be submitted to the Office of Management and Budget (OMB) for a review of the information collection requirements.

DATES: Comments on the collection of information are due June 15, 2018.

ADDRESSES: Comments filed with OMB, identified by OMB Control No. 1902-0218 and OMB Control No. 1902-0277, should be sent via email to the Office of Information and Regulatory Affairs: oira_submission@omb.gov. Attention: Federal Energy Regulatory Commission Desk Officer. The Desk Officer may also be reached via telephone at 202-395-8528.

A copy of the comments should also be sent to the Commission, in Docket No. IC18-6-000 by either of the following methods:

• eFiling at Commission's website: http://www.ferc.gov/docs-filing/efiling.asp

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-65 (Notice of Holding Company Status), FERC-65A (Exemption Notification of Holding Company Status), and FERC-65B (Waiver Notification of Holding Company Status).

OMB Control No.: 1902-0218.

Type of Request: Three-year extension of the FERC-65, FERC-65A and FERC-65B information collection requirements with no changes to the current reporting requirements.

Abstract: The Pursuant to section 366.4 of the Commission's rules and regulations, persons who meet the definition of a holding company shall provide the Commission notification of holding company status.

The FERC-65 is a one-time informational filing outlined in the Commission's regulations at 18 Code of Federal Regulations (CFR) 366.4. The FERC-65 must be submitted within 30 days of becoming a holding company.¹ While the Commission does not require the information to be reported in a specific format, the filing needs to consist of the name of the holding company, the name of public utilities, the name of natural gas companies in the holding company system, and the names of service companies. In addition, the Commission requires the filing to include the names of special-purpose subsidiaries (which provide non-power goods and services) and the names of all affiliates and subsidiaries (and their corporate interrelationship) to each other. Filings may be submitted in hardcopy or electronically through the Commission's eFiling system.

¹ Persons that meet the definition of a holding company as provided by § 366.1 as of February 8, 2006 shall notify the Commission of their status as a holding company no later than June 15, 2006. Holding companies formed after February 8, 2006 shall notify the Commission of their status as a holding company, no later than the latter of June 15, 2006 or 30 days after they become holding companies.

FERC-65A (Exemption Notification of Holding Company Status)

While noting the previously outlined requirements of the FERC-65, the Commission has allowed for an exemption from the requirement of providing the Commission with a FERC-65 if the books, accounts, memoranda, and other records of any person are not relevant to the jurisdictional rates of a public utility or natural gas company; or if any class of transactions is not relevant to the jurisdictional rates of a public utility or natural gas company. Persons seeking this exemption file the FERC-65A, which must include a form of notice suitable for publication in the Federal Register. Those who file a FERC-65A in good faith will have a temporary exemption upon filing, after 60 days if the Commission has taken no action, the exemption will be deemed granted. Commission regulations within 18 CFR 366.3 describe the criteria in more specificity.

1. FERC-65B (Waiver Notification of Holding Company Status)

If an entity meets the requirements in 18 CFR 366.3(c), they may file a FERC-65B waiver notification pursuant to the procedures outlined in 18 CFR 366.4. Specifically, the Commission waives the requirement of providing it with a FERC-65 for any holding company with respect to one or more of the following: (1) Single-state holding company systems; (2) holding companies that own generating facilities that total 100 MW or less in size and are used fundamentally for their own load or for sales to affiliated end-users; or (3) investors in independent transmission-only companies. Filings may be made in hardcopy or electronically through the Commission's website.

Type of Respondent: Public utility companies, natural gas companies, electric wholesale generators, foreign utility holding companies.

Estimate of Annual Burden: ² The Commission estimates the annual public reporting burden for the information collection as:

² Burden is defined as the total time, effort, or financial resources expended by persons to generate, maintain, retain, or disclose or provide information to or for a Federal agency. Refer to 5 CFR 1320.3 for additional information.

FERC-65 (Notification of Holding Company Status), FERC-65A (Exemption Notification of Holding Company Status), and FERC-65B (Waiver Notification of Holding Company Status)
| Number of respondents | Annual number of responses per respondent | Total number of responses | Average burden and cost per response ³ | Total annual burden hours and total annual cost | Cost per respondent
| (1) | (2) | (1) * (2) = (3) | (4) | (3) * (4) = (5) | ($) (5) ÷ (1)
FERC-65 | 12 | 1 | 12 | 3; $229.50 | 36; $2,754 | $229.50
FERC-65A | 4 | 1.25 | 5 | 1; $76.50 | 5; $382.50 | $95.63
FERC-65B | 4 | 1.75 | 7 | 1; $76.50 | 7; $535.50 | $133.88
Total |  |  | 24 |  | 48; $3,672 |

Title: FERC-725V, Mandatory Reliability Standards: COM Reliability Standards.

³ The estimates for cost per response are derived using the following formula: 2017 Average Burden Hours per Response * $76.50 per Hour = Average Cost per Response. The hourly cost figure of $76.50 is the average FERC employee wage plus benefits. We assume for FERC-65, FERC-65A and FERC-65B that respondents earn at a similar rate.

OMB Control No.: 1902-0277.

Type of Request: Three-year extension of the FERC-725V information collection requirements with no changes to the current reporting requirements.

Abstract: On August 15, 2016, the North American Electric Reliability Corporation (NERC) filed a petition for Commission approval, pursuant to section 215(d)(1) of the Federal Power Act (“FPA”) ⁴ and Section 39.5 ⁵ of the Federal Energy Regulatory Commission's regulations, for Reliability Standard COM-001-3 (Communications), the associated Implementation Plan, retirement of currently-effective Reliability Standard COM-001-2.1, and Violation Risk Factors (“VRFs”) and Violation Severity Levels (“VSLs”) associated with new Requirements R12 and R13 in Reliability Standard COM-001-3. Reliability Standard COM-001-3 reflects revisions developed under Project 2015-07 Internal Communications Capabilities, in compliance with the Commission's directive in Order No. 888 that NERC “develop modifications to COM-001-2, or develop a new standard, to address the Commission's concerns regarding ensuring the adequacy of internal communications capability whenever internal communications could directly affect the reliability opera.

⁴ 16 U.S.C. 824o (2012).

⁵ 18 CFR 39.5 (2015).

Reliability Standards COM-001-2 and COM-002-4 do not require responsible entities to file information with the Commission. COM-001-2 requires that transmission operators, balancing authorities, reliability coordinators, distribution providers, and generator operators must maintain documentation of Interpersonal Communication capability and designation of Alternate Interpersonal Communication, as well as evidence of testing of the Alternate Interpersonal Communication facilities. COM-002-4 requires balancing authorities, distribution providers, reliability coordinators, transmission operators, and generator operators to develop and maintain documented communication protocols, and to be able to provide evidence of training on the protocols and of their annual assessment of the protocols. Additionally, all applicable entities (balancing authorities, reliability coordinators, transmission operators, generator operators, and distribution providers) must be able to provide evidence of three-part communication when issuing or receiving an Operating Instruction during an Emergency.

Type of Respondents: Public utilities.

Estimate of Annual Burden: ⁶ The Commission estimates the annual public reporting burden for the information collection as:

⁶ The Commission defines burden as the total time, effort, or financial resources expended by persons to generate, maintain, retain, or disclose or provide information to or for a Federal agency. For further explanation of what is included in the information collection burden, reference 5 Code of Federal Regulations 1320.3.

FERC-725V, Mandatory Reliability Standards: COM Reliability Standards
| Number of respondents | Annual number of responses per respondent | Total number of responses | Average burden and cost per response ⁷ | Total annual burden hours & total annual cost | Cost per respondent
| (1) | (2) | (1) * (2) = (3) | (4) | (3) * (4) = (5) | ($) (5) ÷ (1)
(One-time) ⁸ Development of Communication Protocols [COM-002-4 R1] | 201 (BA, RC & TOP) | 1 | 201 | 8 hrs. & $288 | 1,608 hrs. & $57,888 | 288
(On-going) ⁹ Maintain evidence of Interpersonal Communication capability [COM-001-2 R7 and R8] | 1,180 (DP & GOP) | 1 | 1,180 | 4 hrs. & $144 | 4,720 hrs. & $169,920 | 144
(On-going) Maintain evidence of training and assessments [COM-002-4 R2, R4, R5 and R6] | 201 (BA, RC & TOP) | 1 | 201 | 8 hrs. & $288 | 1,608 hrs. & $57,888 | 288
(On-going) Maintain evidence of training [COM-002-4 R3 and R6] | 1,880 (DP & GOP) | 1 | 1,180 | 8 hrs. & $288 | 15,040 hrs. & $541,440 | 288
Total |  |  | 2,762 |  | 22,976 hrs. & $827,136 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ The loaded hourly wage figure (includes benefits) is based on the occupational categories for 2016 found on the Bureau of Labor Statistics website (http://www.bls.gov/oes/current/naics2_22.htm):

Electrical Engineer (Occupation Code: 17-2071): $68.12 (review and documentation).

Office and Administrative Support (Occupation Code: 43-0000): $40.89 ($68.12 + 40.89 = 109.01 ÷ 3 = $36.34. This figure is rounded to $36.00 for use in collection FERC-725V for calculating wage figures in this renewal calculation.

Dated: May 10, 2018.
Nathaniel J. Davis, Sr.,
Deputy Secretary.

[FR Doc. 2018-10401 Filed 5-15-18; 8:45 am]

BILLING CODE 6717-01-P